FEDERAL COMMUNICATIONS COMMISSION

Public Information Collections Approved by Office of Management and Budget

July 13, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC, 20554, (202) 418-2247 or via the Internet at Dana.Jackson@fcc.gov.

SUPPLEMENTARY INFORMATION: OMB Control Number: 3060-0687.

OMB Approval Date: 5/24/2006.

Expiration Date: 5/31/2009.

Title: Access to Telecommunications Equipment and Services by Persons with Disabilities, CC Docket No. 87-124.

Form Number: N/A.

Estimated Annual Burdens: 22,500,000 responses; 0.000277 hours per response (1 second); 6,282 total annually hourly burden.

Needs and Uses: 47 CFR 68.224—Notice of non-hearing aid compatibility. Every non-hearing aid compatible telephone offered for sale to the public on or after August 17, 1989, whether previously-registered, newly registered or refurbished shall (a) contain in a conspicuous location on the surface of its packaging a statement that the telephone is not hearing aid compatible, or if offered for sale without a surrounding package, shall be affixed with a written statement that the telephone is not hearing aid compatible; and (b) be accompanied by instructions. 47 CFR 68.300—Labeling requirements. As of April 1, 1997, all registered telephones, including cordless telephones, manufactured in the United States (other than for export) or imported for use in the United States, that are hearing aid compatible (HAC) shall have the letters “HAC” permanently affixed. The information collections for both rules contain third party disclosure and labeling requirements. The information is used primarily to inform consumers who purchase and/or use telephone equipment to determine whether the telephone is hearing aid compatible.

OMB Control Number: 3060-0737.

OMB Approval Date: 6/8/2006.

Expiration Date: 6/30/2009.

Title: Disclosure Requirements for Information Services Provided Under a Presubscription or Comparable Arrangement.

Form Number: N/A.

Estimated Annual Burdens: 1,000 responses; 5 hours per response; 5,000 total annually hourly burden.

Needs and Uses: 47 CFR 64.1501(b) imposes disclosure requirements on information providers that offer “presubscribed” information services. The requirements are intended to ensure that consumers receive information regarding the terms and conditions associated with these services before they enter into a contract to subscribe to them.

Federal Communications Commission.
Marlene H. Dortch,
Secretary.

[FR Doc. E6-11633 Filed 7-25-06; 8:45 am]

BILLING CODE 6712-01-P